DEPARTMENT OF EDUCATION

Applications for New Awards; Investing in Innovation Fund, Scale-Up Grants

Catalog of Federal Domestic Assistance (CFDA) Number: 84.411A (Scale-up grants).

AGENCY: Office of Innovation and Improvement, Department of Education.

ACTION: Notice; extension of deadline date and correction.

SUMMARY: On March 27, 2012, the Office of Innovation and Improvement in the U.S. Department of Education published in the Federal Register (77 FR 18216) a notice inviting applications for new awards for fiscal year 2012 for the Investing in Innovation (i3) Scale-up grant competition (March 27 i3 Scale-up NIA). This notice extends the deadline date and date for intergovernmental review announced in, and corrects an error in, the March 27 i3 Scale-up NIA.

DATES:

Deadline for Transmittal of Applications: May 30, 2012.

Deadline for Intergovernmental Review: July 26, 2012.

SUPPLEMENTARY INFORMATION:

Deadline Date Extension

In the March 27 i3 Scale-up NIA the Department announced the 2012 i3 Scale-up grant competition and indicated that the Deadline for Transmittal of Applications was May 29, 2012. Applicants under this competition are required to use Grants.gov. Since publishing the March 27 i3 Scale-up NIA, it has come to the Department's attention that the Grants.gov help desk will be closed in observance of Memorial Day on Monday, May 28—the day before the original Deadline for the Transmittal of Applications that was announced in the March 27 i3 Scale-up NIA. The Department extends the deadline date for this competition to May 30, 2012 so that applicants will have sufficient access to the Grants.gov help desk to address any technical issues related to the application submission that may arise the day before the deadline date. As a result of the change in the deadline date, we are also extending the Date for Intergovernmental Review by one day—to July 26, 2012.

Correction

An error appears in the Electronic Submission of Applications section of the March 27 i3 Scale-up NIA. In seven places within that section, the notice indicates that applications must be fully uploaded and submitted and must be date and time stamped by the Grants.gov system no later than 4:30 p.m., Washington, DC time, on the application deadline date. These references to “4:30 p.m.” should be references to “4:30:00 p.m.” For this reason, we correct the March 27 i3 Scale-up NIA as follows:

On page 18225, second column, second bulleted paragraph, correct the three references to “4:30 p.m.” to read “4:30:00 p.m.”.

On page 18225, third column, last paragraph, correct the reference to “4:30 p.m.” to read “4:30:00 p.m.”.

On page 18226, first column, first full paragraph, correct the two references to “4:30 p.m.” to read “4:30:00 p.m.”.

On page 18226, second column, last paragraph, correct the reference to “4:30 p.m.” to read “4:30:00 p.m.”.

Program Authority: American Recovery and Reinvestment Act of 2009, Division A, Section 14007, Public Law 111-5.

VIII. Agency Contact

FOR FURTHER INFORMATION CONTACT: Carol Lyons, U.S. Department of Education, 400 Maryland Avenue SW., room 4W203, Washington, DC 20202-5930. FAX: (202) 205-5631. Telephone: (202) 453-7122 or by email: i3@ed.gov.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) on request to the program contact person listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 25, 2012.
James H. Shelton, III,
Assistant Deputy Secretary for Innovation and Improvement.

[FR Doc. 2012-10383 Filed 4-27-12; 8:45 am]

BILLING CODE 4000-01-P